DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than November 6, 2000.

Interested persons are invited to submit written comments regarding the subject matter of the investigations to the Director, Division of Trade Adjustment Assistance, at the address shown below, not later than November 6, 2000.

The petitions filed in this case are available for inspection at the Office of the Director, Division of Trade Adjustment Assistance, Employment and Training Administration, U.S. Department of Labor, Room C-5311, 200 Constitution Avenue, NW., Washington, DC 20210.

Signed at Washington, DC, this 10th day of October 2000.
Linda G. Poole,
Acting Director, Division of Trade Adjustment Assistance.

Appendix
[Petitions instituted on 10/10/2000]
TA-W | Subject firm (petitioners) | Location | Date of petition | Product(s)
38,179 | Wexco Corporation (Wkrs) | Lynchburg, VA | 09/22/2000 | Bi-Mettalic Cylinders.
38,180 | Northern Cap (Wkrs) | Little Falls, MN | 09/25/2000 | Hats.
38,181 | PPG Industries (USWA) | Springdale, PA | 09/28/2000 | Coatings and Resins.
38,182 | Cox Target Media Sales (Co.) | Washington, DC | 09/27/2000 | Carton Samples, Overwrapped Samples.
38,183 | Seagate Technology (Wkrs) | Oklahoma City, OK | 09/22/2000 | Hard Disc Drives for Computers.
38,184 | JB Sportswear (Co.) | Union, MS | 09/22/2000 | Knit Placket Shirts.
38,185 | GP Timber, Inc (Co.) | Medford, OR | 09/20/2000 | Sawlogs.
38,186 | Nine West Distribution (Co.) | Cincinnati, OH | 09/27/2000 | Ladies' Fashion Footwear.
38,187 | Talon, Inc (Wkrs) | Commerce, CA | 09/25/2000 | Metal Zippers.
38,188 | Supply One (Wkrs) | Klamath Falls, OR | 09/22/2000 | Lumber and Steel Products.
38,189 | Ametek US Guage (IAMAW) | Sellersville, PA | 09/22/2000 | Components for Compressed Gas Gages.
38,190 | Lumart (Co.) | Brooklyn, NY | 09/22/2000 | Bridal Accessories.
38,191 | Windfall Products (Wkrs) | St. Marys, PA | 09/22/2000 | Automobile Products.
38,192 | Metal Powder (IAMAW) | Logan, OH | 09/25/2000 | Casting Molds.
38,193 | Contract Apparel (Wkrs) | El Paso, TX | 09/26/2000 | Inspect, Repair, Pack Lycra Pants.
38,194 | Covington Industries (Wkrs) | Opp, AL | 09/25/2000 | Outerwear Apparel.
38,195 | Nova Bus, Inc. (Co.) | Roswell, NM | 08/15/2000 | Transit Buses.
38,196 | Gadsden Machine & Roll (Wkrs) | Gadsden, AL | 09/29/2000 | Steel Mill Repairs.

[FR Doc. 00-27571 Filed 10-25-00; 8:45 am]

BILLING CODE 4510-30-M